DEPARTMENT OF TRANSPORTATION

Surface Transportation Board

[STB Finance Docket No. 35055]

Dakota, Missouri Valley & Western Railroad, Inc.—Lease and Operation Exemption—Soo Line Railroad Company d/b/a Canadian Pacific Railway

Dakota, Missouri Valley & Western Railroad, Inc. (DMVW), a Class III carrier, has filed a verified notice of exemption under 49 CFR 1150.41 to lease and operate, pursuant to an agreement with Soo Line Railroad Company d/b/a Canadian Pacific Railway (CPR), approximately 45 miles of rail line, known as the Crosby Lines and the Lignite Line.¹ The Crosby Lines consist of a 32.54-mile line of rail from Crosby, ND, at CPR milepost 582.35 (BNSF milepost 89.5), to Lignite Junction, ND, at CPR milepost 550.80 (BNSF milepost 56.96), and three connecting lines that include: (i) A 1.16-mile line from Lignite Junction to Rival, ND, at CPR milepost 549.64; (ii) a 1.07-mile line from Kincaid, ND (BNSF milepost 64.5), to Columbus, ND, at CPR milepost 558.28; and (iii) a 0.49-mile line from Crosby to the original CPR line extending west to Whitetail, MT. The Lignite Line extends from BNSF milepost 47.0 east of Lignite to BNSF milepost 56.96 at Lignite Junction.

¹ In a related proceeding, STB Finance Docket No. 35068, Soo Line Railroad Company d/b/a Canadian Pacific Railway—Acquisition and Operation Exemption—BNSF Railway Company, CPR will be acquiring BNSF Railway Company's (BNSF) interests in the Crosby Line and is the sole owner of the Lignite Line. CPR holds the remaining undivided one-half interest in the Crosby Lines. DMVW previously has operated over the Crosby Lines pursuant to lease agreements with CPR. Upon the consummation of the related proceeding, CPR and DMVW will enter into a new lease allowing DMVW to operate over both lines, which will be under the sole ownership of CPR.

DMVW certifies that its projected revenues as a result of the transaction will not result in the creation of a Class II or Class I rail carrier. Because the projected annual revenues of the line, together with DMVW's projected annual revenue, will exceed $5 million, DMVW certified on July 12, 2007, that it has served the national offices of the labor unions with employees on the line with a copy of a notice of its intent to undertake this transaction and posted such notice at the workplace of the employees on the affected line on June 28, 2007, and July 3, 2007.

The earliest date this transaction can be consummated is September 10, 2007, the effective date of the exemption (60 days after DMVW certified its compliance with the labor notice requirements of 49 CFR 1150.42(e)).

If the verified notice contains false or misleading information, the exemption is void ab initio. Petitions to revoke the exemption under 49 U.S.C. 10502(d) may be filed at any time. The filing of a petition to revoke will not automatically stay the transaction. Petitions for stay must be filed no later than August 31, 2007 (at least 7 days before the exemption becomes effective).

An original and 10 copies of all pleadings, referring to STB Finance Docket No. 35055, must be filed with the Surface Transportation Board, 395 E. Street, SW., Washington, DC 20423-0001. In addition, a copy of each pleading must be served on: Edward J. Fishman, Kirkpatrick & Lockhart Preston Gates Ellis LLP, 1601 K. Street, NW., Washington, DC 20006-1600.

Board decisions and notices are available on our Web site at http://www.stb.dot.gov.

Decided: August 3, 2007.
By the Board, David M. Konschnik, Director, Office of Proceedings.
Vernon A. Williams,
Secretary.

[FR Doc. E7-15461 Filed 8-9-07; 8:45 am]

BILLING CODE 4915-01-P